SECURITIES AND EXCHANGE COMMISSION

[File No. 500-1]

In the Matter of AngelCiti Entertainment, Inc., BodyTel Scientific, Inc., Clearant, Inc., DataMetrics Corp., and Green Energy Group, Inc. (a/k/a eCom eCom.Com, Inc.); Order of Suspension of Trading

June 29, 2012.

It appears to the Securities and Exchange Commission that there is a lack of current and accurate information concerning the securities of AngelCiti Entertainment, Inc. because it has not filed any periodic reports since the period ended March 31, 2008.

It appears to the Securities and Exchange Commission that there is a lack of current and accurate information concerning the securities of BodyTel Scientific, Inc. because it has not filed any periodic reports since the period ended August 31, 2008.

It appears to the Securities and Exchange Commission that there is a lack of current and accurate information concerning the securities of Clearant, Inc. because it has not filed any periodic reports since the period ended June 30, 2009.

It appears to the Securities and Exchange Commission that there is a lack of current and accurate information concerning the securities of DataMetrics Corporation because it has not filed any periodic reports since the period ended January 31, 2008.

It appears to the Securities and Exchange Commission that there is a lack of current and accurate information concerning the securities of Green Energy Group, Inc. (a/k/a eCom eCom.Com, Inc.) because it has not filed any periodic reports since the period ended February 28, 2011. Moreover, the company's Form 10-K for the period ended May 31, 2010 was materially deficient in that it failed to include a report on internal controls over financial reporting, as required by Commission rules.

The Commission is of the opinion that the public interest and the protection of investors require a suspension of trading in the securities of the above-listed companies. Therefore, it is ordered, pursuant to Section 12(k) of the Securities Exchange Act of 1934, that trading in the securities of the above-listed companies is suspended for the period from 9:30 a.m. EDT on June 29, 2012, through 11:59 p.m. EDT on July 13, 2012.

By the Commission.
Jill M. Peterson,
Assistant Secretary.

[FR Doc. 2012-16398 Filed 6-29-12; 11:15 am]

BILLING CODE 8011-01-P